POSTAL REGULATORY COMMISSION

[Docket Nos. MC2011-15 and CP2011-51; Order No. 616]

New Postal Product

AGENCY: Postal Regulatory Commission.

ACTION: Notice.

SUMMARY: The Commission is noticing a recently-filed Postal Service request to add Priority Mail—Non-published Rates to the competitive product list. This notice addresses procedural steps associated with this filing.

DATES: Comments are due: January 11, 2011. Reply comments are due: January 18, 2011.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel, stephen.sharfman@prc.gov or 202-789-6820.

SUPPLEMENTARY INFORMATION:

I. Introduction

On December 17, 2010, the Postal Service requested that the Commission add Priority Mail—Non-published Rates to the competitive product list within the Mail Classification Schedule (MCS).¹ This product is modeled after the Global Expedited Package Services—Non-published Rates product that the Commission approved in Order No. 593.²

¹ Request of the United States Postal Service Concerning Priority Mail—Non-Published Rates and Notice of Filing Materials Under Seal, December 17, 2010 (Request).

² Docket Nos. MC2010-29 and CP2010-72, Order Approving Postal Service Request to Add Global Expedited Package Services—Non-Published Rates 1 to the Competitive Product List, November 22, 2010 (Order No. 593).

Request. In support of its Request, the Postal Service filed four attachments as follows:

• Attachment 1—a redacted copy of Governors' Decision No. 10-6 and attachments thereto, including MCS language describing Priority Mail—Non-published Rates, pricing and methodology, management analysis, and certification that the prices and methodology satisfy applicable criteria;

• Attachment 2—a model contract between the Postal Service and a customer of Priority Mail—Non-published Rates;

• Attachment 3—a Statement of Supporting Justification as required by 39 CFR 3020.32; and

• Attachment 4—an application for non-public treatment of materials to maintain redacted portions of the Governors' Decision, with attachments, and supporting documents under seal.

Comments. Interested persons may submit comments on or before January 11, 2011. Reply comments may be submitted no later than January 18, 2011.

Public Representative. Pursuant to 39 U.S.C. 505, the Commission hereby appoints Derrick D. Dennis to serve as officer of the Commission (Public Representative) to represent the interests of the general public in this proceeding. Neither Derrick D. Dennis nor any staff assigned to assist him shall participate in or provide any advice on any Commission decision in this proceeding other than in their designated capacity.

It is ordered:

1. The Commission establishes Docket Nos. MC2011-15 and CP2011-51 to consider matters raised in the Postal Service's December 17, 2010 Request.

2. Comments are due January 11, 2011. Reply comments are due January 18, 2011.

3. Pursuant to 39 U.S.C. 505, the Commission appoints Derrick D. Dennis to represent the interests of the general public in this proceeding.

4. The Secretary shall arrange for publication of this order in the Federal Register.

By the Commission.
Shoshana M. Grove,
Secretary.

[FR Doc. 2010-32974 Filed 12-30-10; 8:45 am]

BILLING CODE 7710-FW-P